SECURITIES AND EXCHANGE COMMISSION

Sunshine Act Meeting

FEDERAL REGISTER CITATION OF PREVIOUS ANNOUNCEMENT: (67 FR 4297, January 29, 2002)

STATUS: Closed Meeting.

PLACE: 450 Fifth Street, NW., Washington, D.C.

DATE AND TIME OF PREVIOUSLY ANNOUNCED MEETING: Wednesday, February 6, 2002 at 10 a.m.

CHANGE IN THE MEETING: Cancellation of Meeting/Additional Meetings.

The closed meeting scheduled for Wednesday, February 6, 2002, has been cancelled, and rescheduled for Thursday, February 7, 2002, at 10 a.m. Additional closed meetings will be held on Tuesday, February 12, 2002 and Thursday, February 14, 2002, at 10:00 a.m.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(3), (5), (7), (9)(B), and (10) and 17 CFR 200.402(a)(3) (5), (7), 9(ii) and (10), permit consideration of the scheduled matters at the closed meetings.

The subject matters of the closed meeting scheduled for Tuesday, February 12, 2002, will be:

Litigation matter;

Institution and settlement of injunctive actions;

Institution and settlement of administrative proceedings of an enforcement nature;

Formal orders of investigation; and adjudicatory matters.

The subject matters of the closed meeting scheduled for Thursday, February 14, 2002, will be:

Institution and settlement of injunctive actions;

Institution and settlement of administrative proceedings of an enforcement nature; and

Formal orders of investigation.

At times, changes in Commission priorities require alterations in the scheduling of meeting items. For further information and to ascertain what, if any, matters have been added, deleted or postponed, please contact:

The Office of the Secretary at (202) 942-7070.

Dated: February 5, 2002.
Jonathan G. Katz,
Secretary.

[FR Doc. 02-3156 Filed 2-5-01; 4:13 pm]

BILLING CODE 8010-01-P